DEPARTMENT OF JUSTICE

Notice of Lodging Proposed Consent Decree

In accordance with Departmental Policy, 28 CFR 50.7, notice is hereby given that a proposed Consent Decree in United States v. Peter Thorson, et al., Case No. 03-C-0074-C (W.D. Wisc.) was lodged with the United States District Court for the Western District of Wisconsin on July 27, 2004.

This proposed Consent Decree concerns a complaint filed by the United States against Peter Thorson, Managed Investments, Inc., and Construction Management, Inc., and Gerke Excavating, Inc., pursuant to sections 301 and 404 of the Clean Water Act, to obtain injunctive relief from and impose civil penalties against the Defendants for violating the Clean Water Act by discharging pollutants without a permit into waters of the United States. The proposed Consent Decree resolves the allegations against Peter Thorson, Managed Investments, Inc., and Construction Management, Inc. by requiring these Defendants to restore the impacted areas and to pay a civil penalty.

The Department of Justice will accept written comments relating to this proposed Consent Decree for thirty (30) days from the date of publication of this Notice. Please address comments to Leslie K. Herje, Assistant U.S. Attorney, PO Box 1585, Madison, Wisconsin 53701-1585 and refer to United States v. Peter Thorson, et al., Case No. 03-C-0074-C.

The proposed Consent Decree may be examined at the Clerk's Office, United States District Court for the Western District of Wisconsin, 120 North Henry Street, Room 320, Madison, Wisconsin 53701-0432. In addition, the proposed Consent Decree may be viewed at http://www.usdoj.gov/enrd/open.html.

Leslie K. Herje,
Assistant United States Attorney, Chief, Civil Division, Madison, Wisconsin.

[FR Doc. 04-17832 Filed 8-4-04; 8:45 am]

BILLING CODE 4410-15-M